DEPARTMENT OF ENERGY

Federal Energy Regulatory Commission

[Docket No. PR00-14-000]

AIM Pipeline Company; Notice of Petition for Rate Approval

March 17, 2000.

Take notice that on March 14, 2000, AIM Pipeline Company (AIM) filed pursuant to Section 284.123(b)(2) of the Commission's regulations, a petition for rate approval requesting that the Commission approve as fair and equitable a rate of $0.2565 per MMBtu for interruptible transportation services performed under Section 311(a)(2) of the Natural Gas Policy Act of 1978 (NGPA).

AIM states that it is an intrastate natural gas pipeline within the meaning of Section 2(16) of the NGPA, which operates wholly within the State of Mississippi.

Pursuant to Section 284.123(b)(2)(ii), if the Commission does not act within 150 days of the filing date, the proposed rate of transportation services will be deemed to be fair and equitable. The Commission may, prior to the expiration of the 150 day period, extend the time for action or institute a proceeding to afford parties an opportunity for written comments and for the oral presentations of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before April 3, 2000. This petition for rate approval is on file with the Commission and is available for public inspection. This filing may be viewed on the web at http://www.ferc.fed.us/online/rims.htm (call 202-208-2222 for assistance).

David P. Boergers,
Secretary.

[FR Doc. 00-7154 Filed 3-22-00; 8:45 am]

BILLING CODE 6717-01-M